DEPARTMENT OF AGRICULTURE

Forest Service

Notice of Meeting; Federal Lands Recreation Enhancement Act (Title VIII, Pub. L. 108-447)

AGENCY: Rocky Mountain Region, USDA Forest Service.

ACTION: Notice of Meeting.

SUMMARY: The Colorado Recreation Resource Advisory Committee will tentatively meet in Denver, CO. The purpose of the meeting is to train the new committee members and provide them with the information they need to be effective committee members and review several fee proposals. These fee proposals will tentatively include:

1. A new fee for the North Fruita Desert Campground located in the Grand Junction Field Office Area of the BLM.

2. An increase of fees for the Shelf Road Recreation Area in the Royal Gorge Field Office of the BLM.

3. An increase of overnight camping fees for the Penitente Canyon Campground located in the San Luis Valley Public Lands Center area.

4. A new fee for overnight camping fees at the new Zapata Falls Campground located in the San Luis Valley Public Lands Center area.

5. A fee revision for the Green Mountain Reservoir recreation area. Located on the Dillon Ranger District of the White River National Forest.

DATES: The meeting will be held July 12-13, 2011 from 9 a.m.-4:30 p.m. This meeting will be held only if a quorum of eight members is present.

ADDRESSES: The meeting will be at the American Mountaineering Center, 710 10th Street, Golden, CO. Send written comments to Steve Sherwood, Designated Federal Official, 740 Simms Street, Golden, CO 80401 or ssherwood@fs.fed.us.

FOR FURTHER INFORMATION CONTACT: Pam DeVore, Colorado Recreation Resource Advisory Committee Coordinator, at 303-275-5043 or pdevore@fs.fed.us.

SUPPLEMENTARY INFORMATION: The meeting is open to the public. Committee discussion is limited to Forest Service, Bureau of Land Management staff and Committee members. Persons who wish to bring recreation fee matters to the attention of the Committee may file written statements with the Committee staff. Written comments received at least a week before the meeting will be available for committee review. Written comments received less than a week before the meeting may not be available for committee referral. There will be time on the agenda for verbal comments and the Chairperson may ask for comments from the public at any time during the meeting. All persons wishing to address the committee must sign in at the door.

Check for the status of the meeting, the final agenda and a final list of the fee proposals to be reviewed at: http://www.fs.usda.gov/goto/r2/recreation/rac.

The Recreation RAC is authorized by the Federal Land Recreation Enhancement Act, which was signed into law by President Bush in December 2004.

Dated: June 14, 2011.
Maribeth Gustafson,
Deputy Regional Forester, Operations.

[FR Doc. 2011-15550 Filed 6-21-11; 8:45 am]

BILLING CODE 3410-11-P